DEPARTMENT OF THE INTERIOR

Bureau of Ocean Energy Management

[Docket No. BOEM-2011-0097]

Commercial Leasing for Wind Power on the Outer Continental Shelf Offshore Massachusetts—Call for Information and Nominations

AGENCY: Bureau of Ocean Energy Management (BOEM), Interior.

ACTION: Call for Information and Nominations.

SUMMARY: BOEM invites the submission of nominations for commercial leases that would allow a lessee to propose the construction of a wind energy project on the OCS offshore Massachusetts and to develop a project if approved after further environmental review. On December 29, 2010, BOEM issued the Massachusetts Request for Interest (RFI) requesting submission of nominations and other information by February 28, 2011 (75 FR 82055). In response to requests from several interested and affected parties, including the Commonwealth of Massachusetts, BOEM reopened the comment period for the RFI on March 17, 2011 (76 FR 14681), asking for submissions by April 18, 2011. BOEM received 11 nominations of interest from 10 individual entities responding to the RFI, as well as 247 comments from members of the public and state and Federal agencies. On May 2, 2011, BOEM announced it would reduce the area identified in the RFI based on comments received from the fishing community, the Massachusetts Executive Office of Energy and Environmental Affairs, and the Massachusetts congressional delegation. BOEM further refined the area that is under consideration for this Call for Information and Nominations (Call) based on consultation with the BOEM Massachusetts Renewable Energy Task Force, as described in the “Development of the Call Area” section later in this notice. The area that is under consideration for this Call is referred to herein as the “Call Area.”

Although this announcement is not itself a leasing announcement, the Call Area described herein, or portions thereof, may be made available for future leasing. BOEM will use the responses to this Call to gauge specific interest in acquiring commercial wind leases in some or all of the Call Area, and to determine whether competitive interest exists in any particular portion of the Call Area, as required by 43 U.S.C. 1337(p)(3). Parties wishing to submit a nomination in response to this Call should submit detailed and specific information in response to the requirements described below in the section entitled, “Required Nomination Information.”

This announcement also requests comments and information from interested and affected parties about site conditions, resources, and multiple uses in close proximity to, or within, the Call Area that would be relevant to BOEM's review of any nominations submitted and/or to BOEM's subsequent decision to offer all or part of the Call Area for commercial wind leasing. The information that BOEM is requesting is described below in the section of this Call entitled, “Requested Information from Interested or Affected Parties.”

This Call is published pursuant to subsection 8(p)(3) of the OCS Lands Act, 43 U.S.C. 1337(p)(3), as well as the implementing regulations at 30 CFR Part 585.

The Call Area is located off the coast of Massachusetts beginning approximately 12 nautical miles (nmi) south of Martha's Vineyard and 13 nmi southwest of Nantucket. From its northern boundary, the Call Area extends 33 nmi southward to the 60 meter depth contour and has an east/west extent of approximately 47 nmi. The Call Area is approximately 826,241 acres or 975 square nmi in size and contains 132 whole OCS lease blocks as well as 19 partial blocks.

DATES: BOEM must receive your nomination describing your interest in this potential commercial leasing area postmarked or delivered by March 22, 2012 for your nomination to be considered. BOEM requests comments or other submissions of information be postmarked or delivered by this same date. BOEM will consider only the nominations received that conform to this requirement.

Submission Procedures: If you are submitting a nomination for a lease in response to this Call, please submit your nomination to the following address: BOEM, Office of Renewable Energy Programs, 381 Elden Street, HM 1328, Herndon, Virginia 20170. In addition to a paper copy of the nomination, please include an electronic copy of the nomination on a compact disc (CD). BOEM will list the parties that submitted nominations and the location of the proposed lease areas (i.e., OCS blocks nominated) on the BOEM Web site after the 45-day comment period has closed.

Comments and other information may be submitted by either of the following two methods:

1. Federal eRulemaking Portal: http://www.regulations.gov. In the entry titled “Enter Keyword or ID,” enter BOEM-2011-0097, and then click “search.” Follow the instructions to submit public comments and view supporting and related materials available for this notice. BOEM will post all comments which are not labeled “Contains Confidential Information.”

2. By U.S. Postal Service or other delivery service, sending your comments and information to the following address: Bureau of Ocean Energy Management, Office of Renewable Energy Programs, 381 Elden Street, HM 1328, Herndon, Virginia 20170. All responses will be reported on www.regulations.gov.

If you wish to protect the confidentiality of your nominations or comments, clearly mark the relevant sections and request that BOEM treat them as confidential. Please label privileged or confidential information with the caption “Contains Confidential Information” and consider submitting such information as a separate attachment. Treatment of confidential information is addressed in the section of this Call entitled “Protection of Privileged or Confidential Information.” Information that is not labeled as privileged or confidential will be regarded by BOEM as suitable for public release.

FOR FURTHER INFORMATION CONTACT: Jessica Bradley, Renewable Energy Program Specialist, BOEM, Office of Renewable Energy Programs, 381 Elden Street, HM 1328, Herndon, Virginia 20170, (703) 787-1730 or jessica.bradley@boem.gov.

SUPPLEMENTARY INFORMATION:

Purpose of the Call for Information and Nominations

The OCS Lands Act requires BOEM to award leases competitively, unless BOEM determines that there is no competitive interest (43 U.S.C. 1337(p)(3)). The issuance of this Call is not intended to indicate that BOEM has determined that competitive interest exists in the Call Area. Rather, this Call is the next step in the renewable energy planning and leasing process after the publication of the RFI. As described below in the section of this Call describing development of the Call Area, BOEM received numerous expressions of interest and comments in response to the RFI. After considering the comments, BOEM announced on May 2, 2011, that the Call Area would exclude all blocks east of 70° longitude. This Call provides all potential nominators—including those who submitted nominations in response to the RFI—the opportunity to indicate their interest in the reduced Call Area now being considered for leasing and invites additional comments and information relevant to the Call Area. The original nominators may confirm, revise, or withdraw the nominations they submitted in response to the RFI or may submit new nominations, and new nominators may indicate their interest in the Call Area. The responses to this Call will assist BOEM in determining if there is any competitive interest in the Call Area. This Call also requests information from interested and affected parties on issues relevant to BOEM's review of nominations for potential leases in the Call Area. A lease, whether issued through a competitive or non-competitive process, gives the lessee the exclusive right to subsequently seek BOEM approval for the development of the leasehold. The lease does not grant the lessee the right to construct any facilities; rather, the lease grants the right to use the leased area to develop its plans, which BOEM must approve before the lessee may proceed to the next stage of the process. See 30 CFR 585.600 and 585.601.

The responses to this Call could lead to the initiation of a competitive leasing process in some parts of the Call Area (i.e., where competition exists for certain tracts), and a noncompetitive process in other parts of the Call Area (i.e., where no competitive interest exists for certain tracts). The leasing process is described more completely under the “Determination of Competitive Interest” and “Noncompetitive Leasing Process,” sections of this Call. In any parts of the Call Area where BOEM determines there is no competitive interest, BOEM may proceed with the noncompetitive lease process pursuant to 30 CFR 585.232. If BOEM determines that there is competitive interest in some or all of the Call Area, then BOEM may proceed with Area Identification, as set forth in 30 CFR 585.211(b), and the competitive leasing process set forth under 30 CFR 585.211 through 585.225. Whether the leasing process is competitive or noncompetitive, it will include additional opportunities for the public to provide input and be reviewed thoroughly for potential environmental and multiple use impacts. The area(s) that may be finally offered for lease, if any, has/have not yet been determined, and may include less than the total areal extent of the Call Area as identified in this Call.

Background

Energy Policy Act of 2005 (EPAct)

The EPAct amended the OCS Lands Act by adding subsection 8(p)(1)(C), which authorizes the Secretary of the Interior to grant leases, easements, or rights-of-way (ROWs) on the OCS for activities that are not otherwise authorized by law and that produce or support production, transportation, or transmission of energy from sources other than oil or gas, including renewable energy sources. The EPAct also required the issuance of regulations to carry out the new authority pertaining to renewable energy on the OCS. The Secretary delegated this authority to issue leases, easements, and ROWs, and to promulgate regulations, to the Director of BOEM. On April 29, 2009, BOEM published the Renewable Energy and Alternate Uses (REAU) rule, at 30 CFR Part 585, which can be found at: http://www.boem.gov/uploadedFiles/FinalRenewableEnergyRule.pdf.

Executive Order 13547: Stewardship of the Ocean, Our Coasts, and the Great Lakes

On July 19, 2010, the President signed Executive Order 13547 (Order) establishing a national ocean policy and the National Ocean Council (75 FR 43023). The Order establishes a comprehensive, integrated national policy for the stewardship of the ocean, our coasts, and the Great Lakes. Where BOEM actions affect the ocean or coast, the Order requires BOEM to take such action as necessary to implement the policy, stewardship principles, and national priority objectives adopted by the Order, with guidance from the National Ocean Council.

BOEM appreciates the importance of coordinating its planning endeavors with other OCS users and regulators and intends to follow principles of coastal and marine spatial planning, and coordinate with the regional planning bodies as established by the National Ocean Council. BOEM anticipates that continued coordination with the state Renewable Energy Task Forces will help inform comprehensive coastal and marine spatial planning efforts. BOEM also anticipates that tools developed to enhance regional ocean planning efforts, such as the Northeast Ocean Data Portal, will help inform its leasing processes. The Northeast Ocean Data Portal was launched in June 2011 and contains regional spatial data for New England's coasts and ocean waters, and is available at http://www.northeastoceandata.org/.

Department of the Interior “Smart From the Start” Atlantic Wind Initiative

Secretary Ken Salazar announced the Smart from the Start wind energy initiative for the Atlantic OCS on November 23, 2010. The key element of this initiative that relates to commercial wind leasing off Massachusetts is the identification of a Wind Energy Area (WEA) to be analyzed in an environmental assessment (EA) for the purpose of supporting lease issuance and initial on-lease activities. A WEA is a portion of the Call Area that appears to be suitable for the consideration of wind energy development based on information concerning wind energy potential, natural resources, competing uses, and other relevant issues. BOEM is using the planning notices it publishes (the December 2010 RFI and this Call), responses to these notices, and consultation with interested and affected parties through the BOEM Massachusetts Renewable Energy Task Force, to develop and designate a WEA on the OCS off Massachusetts. A WEA may be identified at the Area Identification stage of the planning and leasing process. A description of BOEM's deliberations to date, which have led to delineation of the Call Area, is presented in the section of this notice entitled, “Development of the Call Area.”

BOEM/Massachusetts Renewable Energy Task Force

BOEM established the BOEM Massachusetts Renewable Energy Task Force in November 2009 to facilitate coordination among affected Federal agencies and state, local, and tribal governments throughout the OCS renewable energy leasing and development process. Task Force meeting materials are available on the BOEM Web site at http://www.boem.gov/Renewable-Energy-Program/State-Activities/Massachusetts.aspx.

Environmental Review Process

BOEM intends to prepare an EA, which will consider the environmental consequences associated with issuing commercial wind leases and approving site assessment activities on those leases within all or some of the Call Area. BOEM is publishing, concurrently with this Call, a Notice of Intent (NOI) to prepare an EA, which seeks public input in identifying the environmental issues and alternatives to be considered in the EA.

The EA will consider the environmental consequences associated with reasonably foreseeable leasing and site characterization scenarios within the Call Area (including geophysical, geotechnical, archaeological, and biological surveys), and reasonably foreseeable site assessment scenarios (including the installation and operation of meteorological towers and buoys) on the potential leaseholds. The EA will consider, at a minimum, two alternatives: (1) No action, (i.e. no issuance of leases or approval of site assessment activities), and (2) the issuance of leases and approval of site assessment activities within the Call Area. The NOI solicits input on the environmental effects associated only with the activities described above. The environmental effects of the construction or operation of any wind energy facility would be considered under a separate National Environmental Policy Act (NEPA) environmental review process.

Several consultations will be conducted concurrently with, and integrated into, the current NEPA/EA process. These consultations include, but are not limited to, those required by the Coastal Zone Management Act (CZMA), the Endangered Species Act (ESA), the Magnuson-Stevens Fishery Conservation and Management Act, Section 106 of the National Historic Preservation Act (NHPA), and Executive Order 13175—“Consultation and Coordination with Tribal Governments.” The results of these consultations will assist BOEM in deciding whether and where leases may be issued.

BOEM intends to conduct review under Section 106 of the NHPA in coordination with NEPA review and preparation of the EA (36 CFR 800.8(3)(c)). After evaluating the responses to the Call, but before publishing the Proposed Sale Notice (PSN) for a competitive lease sale or issuing a lease noncompetitively, BOEM will conduct consultations pursuant to Section 106, seeking comment from State Historic Preservation Officers, local governments, tribal governments, and organizations and individuals with a demonstrated interest in the Call Area. Furthermore, as permitted by 36 CFR 800.2(d)(3), BOEM will use public information sessions as public involvement opportunities in lieu of the public involvement requirements set forth in Federal regulations issued pursuant to the NHPA. Finally, pursuant to Executive Order 13175, BOEM has initiated government-to-government tribal consultation with three Federally-recognized tribes that have a demonstrated interest in the Call Area.

Actions Taken by the Commonwealth of Massachusetts in Support of Offshore Renewable Energy Development

BOEM recognizes the importance of the steps that the Commonwealth of Massachusetts has taken to encourage environmentally-sound offshore wind energy development. While a state may promote such development, BOEM retains the exclusive authority to issue leases, easements, and rights-of-way on the OCS for renewable energy purposes. The following information is a summary of the initiatives and actions undertaken by the Commonwealth of Massachusetts to promote the development of wind energy on the OCS.

The Commonwealth of Massachusetts has been working proactively to foster commercial wind development on the OCS off Massachusetts for several years. The Massachusetts RFI that BOEM issued on December 29, 2010 (75 FR 82055), briefly described several of the Commonwealth's key initiatives, including formulation of the Massachusetts Ocean Management Plan. The Massachusetts Ocean Management Plan and related information are available from the Commonwealth at http://www.mass.gov/eea/mop.

In addition, the Commonwealth of Massachusetts has established a Fisheries Working Group on Offshore Renewable Energy to discuss issues and compatibilities between commercial fishing activities and offshore commercial wind energy development, and a Habitat Working Group on Offshore Renewable Energy to discuss available ecosystem data and information within the area under consideration and identify gaps therein. To inform these discussions, the Commonwealth has collected and presented spatial information and data for the RFI area regarding marine mammals, avifauna, bathymetry, surficial geology, commercial ship traffic, and recreational boating, and made it available at http://www.mass.gov/moris. The Commonwealth has conducted more than 30 public meetings and stakeholder sessions in Boston, New Bedford, Martha's Vineyard, and Nantucket to discuss the Federal offshore wind leasing process. BOEM supports the Commonwealth's efforts in engaging the public and stakeholders in the planning process for renewable energy development on the OCS.

BOEM's Planning and Leasing Process

BOEM has been involved in a planning process for renewable energy on the OCS off the coast of Massachusetts since the establishment of the BOEM Massachusetts Renewable Energy Task Force in 2009. BOEM coordinated with the Massachusetts Renewable Energy Task Force on the development of the December 2010 RFI and this Call. BOEM also collaborated with the State of Rhode Island and the Commonwealth of Massachusetts jointly on the development of the Call for the Area of Mutual Interest (AMI), published in the Federal Register on August 18, 2011, under Docket ID “BOEM-2011-0049.” In addition, BOEM participated in the state-hosted public information sessions with stakeholders from both states to provide information regarding BOEM's planning process. Additional information, including presentations and materials from the public information sessions and the Task Force meetings, can be found at: http://www.boem.gov/Renewable-Energy-Program/State-Activities/Massachusetts.aspx.

Determination of Competitive Interest

The first step in the leasing process is to determine whether or not there is any interest in acquiring a lease within the Call Area. At the same time, BOEM can determine whether there is overlapping interest in any particular portion of the Call Area that would result in the need for a competitive process. At the conclusion of the comment period for this Call, BOEM will review the nominations received, undertake a completeness review and a qualifications review, and determine whether competitive interest exists in any specific location within the Call Area.

If two nominated areas of interest fully or partially overlap, BOEM may proceed with competitive leasing as described in the section of this Call entitled “Competitive Leasing Process.” For areas where BOEM determines that there is no competitive interest, BOEM may proceed with noncompetitive leasing described in the section herein entitled “Non-Competitive Leasing Process.” While BOEM anticipates that this Call would result in multiple nominations for particular areas, indicating competitive interest exists, it is possible that the responses to the Call could result in a competitive process, a noncompetitive process, or partially both. BOEM may consult with the BOEM Massachusetts Renewable Energy Task Force throughout the leasing process.

Situations may arise in which several parties nominate areas that do not overlap. Under these circumstances, BOEM could choose to employ an allocation system of leases that involves the creation of competition across tracts. This system is referred to as intertract competition and would also be implemented under the competitive process outlined in the regulations. BOEM may consult with the BOEM Massachusetts Renewable Energy Task Force in determining the need for, and/or use of, intertract competition.

Respondents to this Call and members of the public should be aware that no lease will be issued, either competitively or noncompetitively, until the necessary consultations and environmental analysis have been completed and the public has been given ample opportunity to comment. As a result, it is possible that certain areas nominated may not be leased, or that the areas nominated may be modified from their original, proposed form before being offered for lease.

Competitive Leasing Process

If, after receiving responses to this Call, BOEM proceeds with the competitive leasing process for certain areas, it would follow the steps required by 30 CFR 585.211 through 585.225:

(1) Area Identification: Based on the information submitted in response to this Call, BOEM would identify the area in which interest exists, and which will be subject to environmental analysis, in consultation with appropriate Federal agencies, states, local governments, tribes and other interested parties. The area identified will constitute a WEA under the “Smart from the Start” initiative, and will be the area analyzed in the EA. The NOI to prepare the EA is being published concurrently with this Call.

(2) Proposed Sale Notice (PSN): If BOEM decides to proceed with lease issuance in the area, BOEM would first complete the analyses necessary to inform the issuance of the PSN, including any final NEPA documentation, the Consistency Determination as required by the CZMA and its implementing regulations, and various analyses of proposed lease sale economic terms and conditions. BOEM would then publish the PSN in the Federal Register and send the PSN to any affected tribes, the State Historic Preservation Office, the Governor of any affected state, and the executive of any affected local government. The PSN would describe the areas to be offered for leasing and the proposed conditions of a lease sale, and the proposed auction format, lease document, and lease provisions/stipulations. Additionally, the PSN would describe the criteria and process for evaluating bids. The comment period following issuance of a PSN is 60 days.

(3) Final Sale Notice (FSN): If BOEM decides to proceed with lease issuance after considering comments on the PSN, it would publish the FSN in the Federal Register at least 30 days before the date of the lease sale.

(4) Bid Submission and Evaluation: Following publication of the FSN in the Federal Register, qualified bidders would be able to submit their bids to BOEM in accordance with procedures specified in the FSN. The bids, including any required deposits, would be reviewed for technical and legal adequacy. BOEM would evaluate the bids to determine if the bidder had complied with all applicable regulations. BOEM always reserves the right to reject any or all bids and the right to withdraw an offer to lease an area.

(5) Issuance of a Lease: Following the selection of a winning bid(s) by BOEM, the submitter(s) would be notified of the decision and provided a set of official lease documents for execution. The successful bidder(s) would be required to execute the lease, pay the remainder of the bonus bid, if applicable, and file the required financial assurance within 10 days of receiving the lease documents. Upon receipt of the required payments, financial assurance, and properly executed lease forms, BOEM would issue a lease to the successful bidder(s).

Noncompetitive Leasing Process

If, after evaluating the responses to this Call, BOEM determines that there is no competitive interest in a proposed lease area, it may proceed with the noncompetitive lease issuance process pursuant to 30 CFR 585.232, as amended by the rulemaking which took effect on June 15, 2011 (76 FR 28178). Should BOEM decide to proceed with the noncompetitive leasing process, it would ask if the sole respondent who nominated a particular area wants to proceed with acquiring the lease, and if so, the respondent must submit an acquisition fee as specified by 30 CFR 585.502(a). After receiving the acquisition fee, BOEM would follow the process outlined in 30 CFR 585.231. Within 60 days of the date of that notice, the respondent would be required to submit a Site Assessment Plan (SAP), as described in 30 CFR 585.231(d)(2)(i).

BOEM will comply with the requirements of NEPA, CZMA, ESA, NHPA, and other applicable Federal statutes before issuing a lease noncompetitively. BOEM would coordinate and consult, as appropriate, with relevant Federal agencies, affected tribes, and affected state and local governments, and provide opportunity for public comment prior to issuing a noncompetitive lease and in formulating lease terms, conditions, and stipulations for such a lease.

It is possible that responses to this Call may result in a determination that there is competitive interest in acquiring leases in some areas but not in others. BOEM will announce publicly its determinations before proceeding with any type of leasing process.

Description of the Call Area

The Call Area is located off the coast of Massachusetts, beginning approximately 12 nautical miles (nmi) south of Martha's Vineyard and 13 nmi southwest of Nantucket. From its northern boundary, the Call Area extends 33 nmi southward to the 60 meter depth contour and has an east/west extent of approximately 47 nmi. The Call Area is approximately 826,241 acres or 975 square nmi in size and contains 132 whole OCS lease blocks as well as 19 partial blocks.

The following full OCS lease blocks are included within the Call Area:

In Providence NK19-07: 6976, 6977, 6978, 7022, 7023, 7024, 7025, 7026, 7027, 7028, 7029, 7072, 7073, 7074, 7075, 7076, 7077, 7078, 7079, 7118, 7119, 7120, 7121, 7122, 7123, 7124, 7125, 7126, 7127, 7128, 7129;

In Block Island Shelf NK19-10: 6019, 6020, 6021, 6022, 6023, 6024, 6025, 6026, 6027, 6028, 6029, 6030, 6069, 6070, 6071, 6072, 6073, 6074, 6075, 6076, 6077, 6078, 6079, 6080, 6081, 6082, 6083, 6084, 6125, 6126, 6127, 6128, 6129, 6130, 6131, 6132, 6133, 6134, 6175, 6176, 6177, 6178, 6179, 6180, 6181, 6182, 6183, 6184, 6225, 6226, 6227, 6228, 6229, 6230, 6231, 6232, 6233, 6234, 6275, 6276, 6277, 6278, 6279, 6280, 6281, 6282, 6283, 6284, 6325, 6326, 6327, 6328, 6329, 6330, 6331, 6332, 6333, 6334, 6376, 6377, 6378, 6379, 6380, 6381, 6382, 6383, 6384; and

In Hydrographer Canyon NK19-11: 6051, 6052, 6101, 6102, 6151, 6152, 6201, 6202, 6251, 6252, 6301, 6302, 6351, 6352.

Parts of the following OCS lease blocks are included within the Call Area as listed in the following table:

List of Partial OCS Blocks in the Call Area
Protraction name | Protraction No. | Block No. | Sub block
Providence | NK19-07 | 6972 | M,N,O,P.
Providence | NK19-07 | 6973 | M,N,O,P.
Providence | NK19-07 | 6974 | L,M,N,O,P.
Providence | NK19-07 | 6975 | D,F,G,H,I,J,K,L,M,N,O,P.
Block Island Shelf | NK19-10 | 6119 | A,B,C,D,E,F,G,H,I,J,K,L,M,N,O.
Block Island Shelf | NK19-10 | 6120 | A,B,C,D,E,F,G,H,I,J,K,L.
Block Island Shelf | NK19-10 | 6121 | A,B,C,D,E,F,G,H,I,J,K,L.
Block Island Shelf | NK19-10 | 6122 | A,B,C,D,E,F,G,H,I,J,K,L.
Block Island Shelf | NK19-10 | 6123 | A,B,C,D,E,F,G,H,I,J,K,L.
Block Island Shelf | NK19-10 | 6124 | A,B,C,D,E,F,G,H,I,J,K,L,N,O,P.
Block Island Shelf | NK19-10 | 6169 | A,B,C,E,F,G,I,J,K,M,N,O.
Block Island Shelf | NK19-10 | 6174 | B,C,D,F,G,H,J,K,L,N,O,P.
Block Island Shelf | NK19-10 | 6219 | A,B,C,E,F,G,I,J,K,M,N,O.
Block Island Shelf | NK19-10 | 6224 | B,C,D,F,G,H,J,K,L,N,O,P.
Block Island Shelf | NK19-10 | 6269 | A,B,C,E,F,G,I,J,K,M,N,O.
Block Island Shelf | NK19-10 | 6428 | A,B,C,D,E,F,G,H,I,J,K,L.
Block Island Shelf | NK19-10 | 6429 | A,B,C,D,E,F,G,H,I,J,K,L.
Block Island Shelf | NK19-10 | 6430 | A,B,C,D,E,F,G,H,I,J,K,L.
Block Island Shelf | NK19-10 | 6431 | A,B,C,D,E,F,G,H,I,J,K.

The boundary of the Call Area follows the points listed in the table below in clockwise order. Point numbers 1 and 31 are the same. Coordinates are provided in X, Y (eastings, northings) UTM Zone 19N, NAD 83 and geographic (longitude, latitude), NAD83.

Massachusetts Call Area Boundary

Point No. | X (easting) | Y (northing) | Longitude | Latitude
1 | 364400 | 4555200 | −70.615653 | 41.136789
2 | 380000 | 4555200 | −70.429840 | 41.139245
3 | 380000 | 4550400 | −70.428902 | 41.096020
4 | 384800 | 4550400 | −70.371762 | 41.096715
5 | 384800 | 4531200 | −70.368180 | 40.923806
6 | 413600 | 4531200 | −70.026196 | 40.927357
7 | 413600 | 4497600 | −70.021549 | 40.624717
8 | 389600 | 4497600 | −70.305250 | 40.621859
9 | 389600 | 4495200 | −70.304830 | 40.600243
10 | 388400 | 4495200 | −70.319009 | 40.600082
11 | 388400 | 4494000 | −70.318797 | 40.589275
12 | 370400 | 4494000 | −70.531439 | 40.586651
13 | 370400 | 4497600 | −70.532179 | 40.619071
14 | 360800 | 4497600 | −70.645631 | 40.617510
15 | 360800 | 4502400 | −70.646693 | 40.660734
16 | 356000 | 4502400 | −70.703452 | 40.659911
17 | 356000 | 4512000 | −70.705656 | 40.746356
18 | 352400 | 4512000 | −70.748279 | 40.745718
19 | 352400 | 4522800 | −70.750833 | 40.842965
20 | 330800 | 4522800 | −71.006912 | 40.838793
21 | 330800 | 4507200 | −71.002689 | 40.698345
22 | 327200 | 4507200 | −71.045274 | 40.697598
23 | 327200 | 4540800 | −71.054600 | 41.000088
24 | 346400 | 4540800 | −70.826429 | 41.003931
25 | 346400 | 4551600 | −70.829121 | 41.101169
26 | 359600 | 4551600 | −70.671998 | 41.103557
27 | 359600 | 4552800 | −70.672272 | 41.114362
28 | 362000 | 4552800 | −70.643698 | 41.114774
29 | 362000 | 4554000 | −70.643967 | 41.125579
30 | 364400 | 4554000 | −70.615387 | 41.125983
31 | 364400 | 4555200 | −70.615653 | 41.136789

Map of the Call Area

A map of the Call Area is available at the following URL: http://www.boem.gov/Renewable-Energy-Program/State-Activities/Massachusetts.aspx. A large scale map of the Call Area showing its boundaries, and with numbered blocks, is available from BOEM at the following address: Bureau of Ocean Energy Management, Office of Renewable Energy Programs, 381 Elden Street, HM 1328, Herndon, Virginia 20170, Phone: (703) 787-1320, Fax: (703) 787-1708.

Development of the Call Area

The Call Area was identified by BOEM after consideration of the comments received in response to the December 2010 RFI, which are described below, and further delineated in consultation with the BOEM Massachusetts Renewable Energy Task Force. Specific mitigation, stipulations, or exclusion areas may be developed as a result of: (1) Consultations with appropriate Federal, state, and local agencies, and Indian Tribes, (2) comments and information received in response to this Call, (3) continued coordination with the BOEM Massachusetts Renewable Energy Task Force, and (4) the EA for which BOEM is concurrently publishing a NOI in the Federal Register.

Responses to the December 2010 RFI

BOEM received a total of 11 expressions of interest from 10 individual entities in response to the December 2010 RFI. A table showing the interested parties and the OCS blocks nominated for leasing is available at the following link: http://www.boemre.gov/offshore/RenewableEnergy/PDFs/stateactivities/MA/CommercialIndicationsofInterest4-22-11.pdf.

BOEM also received 247 comments from members of the public as well as state and Federal agencies. The comments received in response to the December 2010 RFI are available at the following link: http://www.boem.gov/Renewable-Energy-Program/State-Activities/Massachusetts.aspx.

BOEM will continue to consider all comments submitted in response to the RFI throughout the leasing process. In particular, the comments submitted in response to the RFI related to commercial wind energy leasing and site assessment activities and site characterization surveys will be analyzed in the EA (refer to the concurrently published NOI). The comments submitted in response to the RFI related to commercial wind energy development (e.g. construction, operation, decommissioning) will be considered in the NEPA analysis that will be conducted when these development activities are subject to a BOEM decision. A brief summary of the comments is provided below.

The comments that BOEM received ranged over a variety of topics in addition to general support or opposition, including avian resources, coastal and marine spatial planning (CMSP), community-owned projects, fishing activities and fishery resources, historic properties and national natural landmarks, marine mammal resources, the NEPA process, shipping and navigation, tribal resources, viewshed, and the Cape Wind Energy Project. Many commenters—including the Nature Conservancy, National Oceanic and Atmospheric Administration (NOAA), National Marine Fisheries Service (NMFS), and the Sierra Club—submitted maps showing information related to particular resources overlapping with the RFI area. The comments received by BOEM are available at the following link: http://www.boem.gov/Renewable-Energy-Program/State-Activities/Massachusetts.aspx.

Avian resources

Comments regarding the potential impact of offshore commercial wind energy development to avian species were received from The Humane Society of the United States, Massachusetts (Mass) Audubon Society, and the National Wildlife Federation. The Humane Society recommended a requirement for multiple years of pre-construction monitoring. Mass Audubon Society noted that the RFI area includes two species of concern: Long tailed ducks and roseate terns. Mass Audubon recommended multi-year studies on these species' individual movements using radio or satellite transmitters and aerial and boat surveys to identify the potential risk to the endangered roseate tern and the state-listed common tern from any wind energy development in the Muskeget Shoals area. Mass Audubon identified an area offshore Massachusetts that appears to overlap with the RFI area that has been identified as globally significant habitat for long tailed ducks and indicated that data collected from 1997 to 2011 demonstrate that approximately 30 percent of the global breeding population of long tailed ducks completes a daily commute from Nantucket Sound to forage on high concentrations of pelagic amphipods in the waters immediately west of Nantucket Shoals.

Coastal and Marine Spatial Planning (CMSP)

Comments related to CMSP were received from Alliance to Protect Nantucket Sound, Conservation Law Foundation, Environmental Entrepreneurs, Fishing Vessel Holly and Abby, Martha's Vineyard Commission, National Marine Fisheries Service, New England Fishery Management Council, Oceans Public Trust Initiative, Sandy Hook Pilots, Sierra Club, and individual citizens. Comments included concerns that the process used to identify the RFI would circumvent the CMSP process. Recommendations requested that BOEM use the principles of the National Ocean Policy, particularly CMSP, prior to the siting of wind facilities offshore Massachusetts. The Sierra Club recommended that BOEM coordinate its CMSP efforts with existing plans and policies and with the CMSP activities of the Northeast Regional Ocean Council.

Community-Owned Projects

BOEM received comments related to community-owned projects from the Commonwealth of Massachusetts, State Representative Timothy Madden, Martha's Vineyard Commission, Town of Oak Bluffs, members of the Vineyard Power Cooperative, and individual citizens. BOEM received many comments that requested BOEM to give priority to applications that include a community-owned component, reduce the financial and technical qualification requirements for community-owned projects that express interest in the RFI area, and set aside specific blocks for community-owned development within the RFI area. The Martha's Vineyard Commission recommended that BOEM involve affected communities early in the process and establish a fund to assist with mitigation of effects on local communities, and that developers should be encouraged to work with local communities to facilitate construction of community-owned wind projects.

Fishing Activities and Fishery Resources

Comments related to fishing activities and fishery resources were received from the American Alliance of Fishermen, Atlantic Capes Fisheries, City of New Bedford Mayor Scott Lang, Commonwealth of Massachusetts, Conservation Law Foundation, David Frulla, Kelly Drye & Warren LLP, Fishing Vessel Holly and Abby, GAO Associates, Hunter Scalloping Company, Martha's Vineyard Commission, National Wildlife Federation, New England Fishery Management Council, NMFS, The Nature Conservancy, Sierra Club, and individual citizens. Comments included concerns about insufficient outreach to fishermen and concerns related to potential impacts to the commercial fishing industry from commercial wind energy development of the RFI area. The American Alliance of Fishermen, City of New Bedford Mayor Scott Lang, and the Commonwealth of Massachusetts requested that extensive studies be conducted of stocks west of the 70° longitude line and that OCS blocks within the RFI area east of the 70° longitude line be excluded from further consideration in order to protect valuable fisheries resources. BOEM has already acted on the latter request, thus reducing the size of the Call Area from that of the originally-proposed RFI area. The Nature Conservancy submitted information from the Northwest Atlantic Marine Ecoregional Assessment, including maps that show information related to average pounds of catch of certain fish species (cod, yellowtail flounder, winter flounder, sea scallop, etc.) overlapping the RFI area.

NMFS identified designated essential fish habitat (EFH) for multiple species within the RFI area for a range of federally managed species. NMFS indicated that complex benthic substrates vulnerable to disturbances are located within the RFI area, and included maps of certain ecologically important factors within the RFI area. NMFS noted that specific proposals within the RFI area must include an expanded EFH assessment under the federal review process. NMFS indicated there are many critical resources in the RFI area, including habitat for endangered species and federally managed fishing resources, and included information as to locations of critical habitat as well as fishery management areas such as the Nantucket Lightship Closed Access Area and the Nantucket Lightship Habitat Closure Area. NMFS also described fishery activities and associated fishery resources within the RFI area, and included maps of specific fishing activity for the RFI area using Vessel Trip Report data for five types of fishing activities from 2006-2012. The New England Fishery Management Council identified active fishing grounds for species within the RFI area and recommended BOEM obtain information on species distribution, fishing effort, and revenues from NMFS. The New England Fishery Management Council also noted the RFI area encompasses EFH for a broad range of federally managed species, and requested that projects in the area and their accompanying NEPA documents include an expanded EFH impact assessment.

The American Alliance of Fishermen requested that BOEM conduct additional studies on tuna and swordfish, and fishery stocks that have not been reported on, such as squid, winter flounder, lobster, scup, whiting, black sea bass, skates and dogfish. The Sierra Club recommended that BOEM consider the relationship of the RFI area to the EFH Omnibus Amendment process underway by the New England Fishery Management Council. David Frulla, Kelley Drye & Warren LLP, on behalf of the Fisheries Survival Fund, suggested that BOEM use the following sources of information when identifying fishing grounds: Vessel Monitoring System data, Vessel Trip Reports, Swept Area Seafloor Impact Model (to identify fishing impacts on essential fish habitats), and Scallop Survey Data. Comments also included concerns regarding commercial wind energy development and interference with vessel radar systems, and exclusions by fishing vessel insurance companies.

The Martha's Vineyard Commission expressed support for the Commonwealth's Fisheries Working Group on Offshore Renewable Energy and recommended extensive mapping of fishing and fish resource areas. The Martha's Vineyard Commission also recommended that developers work with the fishing community to implement practices that minimize the impact on fishing, such as assistance with increased insurance costs and coordination of cable-laying. Atlantic Capes Fisheries recommended areas rich in scallops and other fisheries such as the Nantucket Lightship Area and the eastern area of the RFI be removed from leasing consideration and that areas the New England Fishery Management Council would make permanent closures for habitat be considered as preferred and initial leasing targets provided that other major environmental resources are not compromised.

National Natural Landmarks

BOEM received comments from the National Park Service regarding two designated National Natural Landmarks that are located in proximity to the RFI area: Gay Head Cliffs, located at the southwest end of Martha's Vineyard and Muskeget Island, located off the western tip of Nantucket. The National Park Service noted that Federal agencies should consider the existence and location of designated National Natural Landmarks in assessing the effects of their activities on the environment under section 102(2)(c) of NEPA (42 U.S.C. 4321). The National Park Service recommended consideration of the status of Gay Head Cliffs and Muskeget Island as registered National Natural Landmarks in evaluating the probable impact of the proposed activity on the public interest. The National Park Service noted that increased erosion impacts to the cliffs, changes to sediment transport, and impacts to grey seal breeding areas (Muskeget being considered one of the southernmost breeding areas) are of particular concern.

Marine Mammal Resources

BOEM received comments related to marine mammal resources from the Commonwealth of Massachusetts, The Humane Society of the United States, Marine Mammal Commission, National Wildlife Federation, NMFS, The Nature Conservancy, Sierra Club, Whale and Dolphin Conservation Society, and individual citizens. Comments included concerns that insufficient baseline data is currently available about marine mammals or their habitats and recommendations to initiate monitoring and baseline studies to acquire additional information. Comments also indicated that many species of marine mammals have been sighted within the RFI area, including harbor porpoises and endangered North Atlantic right whales. The Nature Conservancy submitted information from the Northwest Atlantic Marine Ecoregional Assessment, including maps that show information related to important marine mammal areas overlapping the RFI area.

The Humane Society of the United States expressed reservations regarding the data provided on the Massachusetts Ocean Management Plan Web site, and stated that monitoring should be required immediately using aerial and vessel-based surveys and passive acoustic monitoring. The Humane Society of the United States also expressed concern regarding the changes to migration patterns and potential for increased vessel collisions. NMFS indicated several species of marine mammals are common residents or occasional visitors to the RFI area, included locations of critical habitat for several species, and noted the consultation requirements for Section 7(a)(2) of the ESA, and the similar requirements of the Marine Mammal Protection Act. The Marine Mammal Commission requested that BOEM consult with NMFS, U.S. Fish and Wildlife Service, the Marine Mammal Commission, and the Army Corps of Engineers to develop a set of standards for the collection of baseline information on marine mammals and their environment, and identify and address any significant data gaps, before initiating the leasing process for renewable energy operations. The Marine Mammal Commission also expressed concerns regarding vessel collisions with marine mammals, marine mammal collisions with turbines, toxic chemical spills from turbines, and the unknown effects of electromagnetic fields.

NEPA Process

BOEM received comments from the Alliance to Protect Nantucket Sound, Defenders of Wildlife, Environmental Entrepreneurs, Marine Mammal Commission, and Oceans Public Trust Initiative, about the NEPA process. The Alliance to Protect Nantucket Sound, Defenders of Wildlife, Marine Mammal Commission, and Oceans Public Trust Initiative recommended that DOI develop an Environmental Impact Statement rather than an EA at the leasing stage.

The Environmental Entrepreneurs supported the “Smart from the Start” initiative to streamline the process and requested that BOEM incorporate the Offshore Wind Development Coalition's principles for offshore wind leasing into the initiative to make it easier for wind developers to obtain preliminary, exclusive leases for site exploration while still ensuring that there will be full environmental review when an actual project is proposed.

Shipping and Navigation

BOEM received comments related to shipping and navigation from the U.S. Coast Guard First District, American Association of Port Authorities, The American Waterways Operators, Sandy Hook Pilots, Port Authority of New York and New Jersey, Commonwealth of Massachusetts, and individual citizens. Comments focused on concerns regarding commercial wind energy development overlapping or in proximity to existing Traffic Separation Schemes (TSS). The U.S. Coast Guard First District suggested that OCS blocks overlapping with and in proximity to the Boston and Nantucket to Ambrose TSS be highlighted for possible exclusion or imposition of mitigation measures. The U.S. Coast Guard First District also suggested that historical Automated Identification System (AIS) data be used to determine vessel traffic density, recommended that the consequences of funneling traffic into the traffic lane or closer to shore be identified, and suggested a study of potential impacts of offshore wind energy development on the U.S. Coast Guard's ability to conduct search and rescue missions.

The American Waterways Operators expressed concerns related to the placement of wind turbines and impacts to navigation and operation safety, and suggested that BOEM exclude areas for wind development that are within at least 800 meters from a TSS. BOEM has already excluded, in consultation with the U.S. Coast Guard, aliquot parts of OCS blocks within 1 nmi of the TSS from the Call Area. The American Waterways Operators expressed support for BOEM's use of AIS to identify vessel traffic patterns, and requested BOEM consult with maritime industry stakeholders as part of the NEPA scoping process. The American Association of Port Authorities recommends that future RFIs exclude areas near a TSS before the official release of the RFI, and recommends that BOEM use U.S. Coast Guard personnel and resources to analyze the AIS data and provide recommendations.

Tribal Resources

BOEM received comments from the Martha's Vineyard Commission, National Wildlife Federation, and the Town of Oak Bluffs regarding tribal resources. The Martha's Vineyard Commission recommended that BOEM involve tribal representatives in all stages and aspects of the process of planning, research, project selection, and project design. The Town of Oak Bluffs expressed support for the Wampanoag Tribe of Gayhead's (Aquinnah) request that any project less than 21 miles offshore should be reviewed with particular sensitivity to tribal concerns and historic scenic views.

Viewshed

BOEM received comments from the Martha's Vineyard Commission, National Wildlife Federation, and the Town of Oak Bluffs related to viewshed concerns. The Martha's Vineyard Commission requested that BOEM should work to mitigate any impacts to scenic views through siting and turbine configuration. The Town of Oak Bluffs expressed concern about the effects of the RFI on historic and scenic viewscapes. The National Wildlife Federation recommended that the Federal Government fully pursue its government-to-government consultation obligation by reaching out directly to tribes and ensure that the appropriate tribal officials and tribal staff have been fully consulted, involving more than an official letter of notice, and including every possible communication method (letter, email, phone, and face-to-face meetings). The National Wildlife Federation also recommended the Federal Government fully address and pursue measures to minimize and fully mitigate impacts to tribal cultural, wildlife, water and other natural resources, with the ultimate objective of having no impact on those resources or traditional properties.

The Cape Wind Energy Project

BOEM received comments from the Alliance to Protect Nantucket Sound, Oceans Public Trust Initiative, and individual citizens expressing concerns regarding the Cape Wind Energy Project. Comments included general opposition to the Cape Wind Energy Project and stated that BOEM should consider the RFI area as an alternative site to the Cape Wind Energy Project. The Alliance to Protect Nantucket Sound and Oceans Public Trust Initiative expressed that the RFI area demonstrates that there are alternative locations to Cape Wind's location in Nantucket Sound. The Oceans Public Trust Initiative suggested that DOI disapprove the Cape Wind project.

Additional Task Force Membership Comments

Issues discussed through consultation with the BOEM/Massachusetts Renewable Energy Task Force, and areas where site-specific stipulations may be required are described below. NMFS noted that the Call Area overlaps with the Nantucket Lightship Groundfish Closed Area, and also noted the New England Fishery Management Council (NEFMC) is considering a range of new possible habitat closed area alternatives because of habitat vulnerability within proximity to the Call Area, such as Cox Ledge and Nantucket Shoals. NMFS provided in its comment the following references for detailed information regarding areas that are actively managed by NMFS: http://www.nero.noaa.gov/nero/fishermen/charts.html and http://www.nero.noaa.gov/nero/regs/info.html. NMFS noted this information is important for developers when considering proposed cable routes as well as potential for interactions with fishing activities displaced from these closed areas. Concerning cables, NMFS further identified the need for BOEM to proactively develop cable corridors in order to minimize the cumulative impact of multiple cables from sites within a Wind Energy Area to shore. BOEM has requested information regarding potential cable configurations and consolidations from nominators that submit a response to this Call (refer to the section entitled “Required Nomination Information”), and will consider the information it receives in response to the Call as it moves forward with the leasing and planning process and in the EA.

NMFS made recommendations concerning several other aspects of potential OCS development. NMFS recommended that information generated by lessees through site assessment and leasing activities be made public and used to populate the National Ocean Council's “National Information Management System,” and/or regional data portals. The Northeast Regional Ocean Council (NROC) has been working with a partnership of government agencies, non-government organizations, and academic entities to develop a Northeast Ocean Data Portal, which can be accessed at: http://northeastoceandata.org/. NMFS also recommended the Call acknowledge the issue of climate change and the anticipated shift in fishery resource populations as well as shifts in fishing activities. NMFS also recommended that BOEM require coordinated fisheries studies once leases have been issued to ensure a consistent fishery research methodology throughout the area and minimize duplicative costs to developers.

Department of Defense (DoD) Activities

The DoD conducts offshore testing, training, and operations on the OCS. BOEM will consult with the DoD about all areas nominated for leasing to ensure that any future development can be compatible with defense activities on the OCS.

BOEM Approach to Exclusion Requests

Several comments received by BOEM in response to the RFI have recommended areas to be excluded from consideration of potential leasing. As explained in the section of the Call entitled, “Purpose of the Call for Information and Nominations,” the inclusion of an area of the OCS within the Call Area is not a decision to lease that area. The Call solicits information from all interested and affected parties that BOEM can use in identifying portions of the Call Area where interest exists and which will be subject to environmental analysis and stakeholder consultation. The information the Call seeks relates to both renewable energy development interest and to other resources within, and current uses of, the Call Area. After considering the information it receives in response to the Call, BOEM may decide to exclude certain areas at the next step in the planning process—the Area Identification—or to include those areas for further consideration and analysis in the NEPA review. Please refer to the NOI that is being published concurrently with this notice. Generally, BOEM's approach is to first analyze the entire Call Area thoroughly with the goal of eliminating or reducing to an acceptable level any potential resource and use conflicts. However, if BOEM concludes that such conflicts cannot be properly mitigated, exclusions may be necessary. BOEM intends to make fully-informed decisions on exclusions at the appropriate time in the lease planning process.

Task force members and comments received in response to the RFI have both identified competing uses within the Call Area. BOEM hereby highlights in the Call two such uses: (1) Vessel traffic and (2) commercial fishing, and requests specific data and information relevant to these uses, which will be used to inform its subsequent decisions. BOEM will consider the information received from interested developers, maritime interests, commercial fishers, and others concerning these uses in reaching an Area Identification and in planning the ensuing NEPA analysis. It is possible that certain geographic areas and/or associated mitigation measures could be framed as alternatives in the NEPA analysis to enable thorough and conclusive consideration by BOEM in its decisionmaking.

Required Nomination Information

If you intend to submit a nomination for a commercial wind energy lease within the Call Area, you must provide the following:

(1) The BOEM Protraction name, number, and specific whole or partial OCS blocks or sub-blocks within the Call Area that are of interest to you for commercial wind leasing, including any required buffer area. This information should be submitted as a spatial file compatible with ArcGIS 9.3 in a geographic coordinate system (NAD 83), in addition to a hard copy submittal. If your proposed lease area includes one or more partial blocks, please describe those partial blocks in terms of a sixteenth (i.e., sub-block) of an OCS block. BOEM will not consider any areas outside of the Call Area in this process;

(2) A description of your objectives and the facilities that you would use to achieve those objectives, including: A general description of devices and infrastructure you intend to use; anticipated power production and likely purchasers; a statement that the proposed activity conforms with state and local energy planning requirements, initiatives or guidance, as appropriate;

(3) A schedule of proposed activities, including those leading to commercial operations;

(4) Available and pertinent data and information concerning renewable energy resources and environmental conditions in the Call Area, including energy and resource data and information used to evaluate the Call Area. Where applicable, spatial information should be submitted in a format compatible with ArcGIS 9.3 in a geographic coordinate system (NAD 83);

(5) If available, identification of potential cable landfall sites, staging areas, and any other support sites that may be necessary for your project;

(6) If available, information regarding proposed land-side and near-shore project elements and their potential effects on viewsheds, historic, cultural, and/or tribal resources;

(7) Description of the compatibility of your project with commercial fishing activity (e.g. spacing between individual turbines, array configurations, cable burial depths, routing measures, inspections, cable configurations or consolidations, etc.) occurring, or expected to occur, both within, and within proximity to, your proposed area;

(8) Documentation demonstrating that you are qualified to hold a lease as set forth in 30 CFR 585.106 and 107. Examples of documentation appropriate for demonstrating your legal qualifications can be found in Chapter 2 and Appendix B of the BOEM Renewable Energy Framework Guide Book available at: http://www.boemre.gov/offshore/RenewableEnergy/PDFs/REnGuidebook_03August2009_3_.pdf. Legal qualification documents will be placed in an official file that may be made available for public review. If you wish that any part of your legal qualification documentation be kept confidential, clearly identify what should be kept confidential, and submit it under a separate cover (See “Protection of Privileged or Confidential Information Section,” below);

(9) You must also include documentation demonstrating that you are technically and financially capable of constructing, operating, maintaining and decommissioning the facilities described in (2) above. Guidance regarding documentation appropriate for demonstrating your technical and financial qualifications can be found at: http://www.boem.gov/Renewable-Energy-Program/Regulatory-Information/Index.aspx. Documentation you submit to demonstrate your legal, technical, and financial qualifications must be provided to BOEM in both paper and electronic formats. BOEM considers an Adobe PDF file stored on a CD to be an acceptable format for submitting an electronic copy; and

(10) Applicants who submitted a nomination in response to the RFI should indicate in response to this Call whether: (1) They wish to continue with their original RFI nomination within the Call Area; (2) they wish to continue with, but modify, their original RFI nomination within the Call Area; (3) they wish to withdraw their original RFI nomination from further consideration; and/or (4) they wish to submit a new nomination of interest within the Call Area. An applicant may make more than one nomination within the Call Area. Therefore, for example, even if the applicant wishes to continue with its original RFI nomination, it may also make a new nomination.

It is critical that you submit a complete nomination so that BOEM may evaluate your submission in a timely manner. If BOEM reviews your nomination and determines that it is incomplete, BOEM will inform you of this determination in writing. This letter will describe the information that BOEM determined to be missing from your nomination, and direct you to submit it in order for BOEM to deem your submission complete. You will be given 15 business days from the date of the letter to submit the information that BOEM found to be missing from your original submission. If you do not meet this deadline, or if BOEM determines this second submission to be insufficient, then BOEM may deem your nomination invalid. In such a case, BOEM would not move forward with your nomination submitted in response to this Call.

Requested Information From Interested or Affected Parties

BOEM is requesting from the public and other interested or affected parties specific and detailed comments regarding the following:

(1) Geological and geophysical conditions (including bottom and shallow hazards);

(2) Known archeological and/or cultural resource sites on the seabed or nearshore and methodologies used to acquire that data;

(3) Historic properties potentially affected by the construction of meteorological towers, the installation of meteorological buoys, or commercial wind development in the Call Area;

(4) Other uses of the area, including navigation (in particular, commercial and recreational vessel use), recreation, and fisheries (commercial and recreational); and

(5) Other relevant socioeconomic, biological, and environmental information.

Protection of Privileged or Confidential Information Freedom of Information Act

BOEM will protect privileged or confidential information that you submit as required by the Freedom of Information Act (FOIA). Exemption 4 of FOIA applies to trade secrets and commercial or financial information that you submit that is privileged or confidential.

If you wish to protect the confidentiality of such information, clearly mark it and request that BOEM treat it as confidential. BOEM will not disclose such information, subject to the requirements of FOIA. Please label privileged or confidential information “Contains Confidential Information” and consider submitting such information as a separate attachment.

However, BOEM will not treat as confidential any aggregate summaries of such information or comments not containing such information. Additionally, BOEM will not treat as confidential (1) the legal title of the nominating entity (for example, the name of your company), or (2) the list of whole or partial blocks that you are nominating. Information that is not labeled as privileged or confidential will be regarded by BOEM as suitable for public release.

Section 304 of the National Historic Preservation Act (16 U.S.C. 470w-3(a))

BOEM is required, after consultation with the Secretary, to withhold the location, character, or ownership of historic resources if it determines that disclosure may, among other things, risk harm to the historic resources or impede the use of a traditional religious site by practitioners. Tribal entities should designate information that falls under Section 304 of NHPA as “Confidential.”

Dated: February 1, 2012.
Tommy P. Beaudreau,
Director, Bureau of Ocean Energy Management.

[FR Doc. 2012-2645 Filed 2-3-12; 8:45 am]

BILLING CODE 4310-VH-P